DEPARTMENT OF THE INTERIOR

Bureau of Land Management

[LLWO200000.18X L11100000.PH0000.LXSCPL000000]

Notice of Availability of the Idaho Proposed Resource Management Plan Amendment and Final Environmental Impact Statement

AGENCY: Bureau of Land Management, Interior.

ACTION: Notice of Availability.

SUMMARY: In accordance with the National Environmental Policy Act of 1969 (NEPA), as amended, and the Federal Land Policy and Management Act of 1976 (FLPMA), as amended, the Bureau of Land Management (BLM) has prepared the Idaho Proposed Resource Management Plan (RMP) Amendment and Final Environmental Impact Statement (EIS) for Greater Sage-Grouse Conservation for the Idaho Greater Sage-Grouse Sub-Region. By this notice, the BLM is announcing its availability and the opening of a protest period concerning the Proposed RMP Amendment.

DATES: The BLM's planning regulations state that any person who meets the conditions as described in the regulations may protest the BLM's Proposed RMP Amendment and Final EIS. A person who meets the conditions outlined in 43 CFR 1610.5-2 and wishes to file a protest must do so within 30 days of the date that the Environmental Protection Agency publishes its Notice of Availability in the Federal Register. A protest regarding the Proposed RMP Amendment announced with this notice must be filed by January 9, 2019.

ADDRESSES: The Proposed RMP Amendment and Final EIS is available on the BLM ePlanning project website at https://go.usa.gov/xPc3a. Click the Documents and Report link on the left side of the screen to find the electronic version of these materials. Hard copies of the Proposed RMP Amendment and Final EIS are available for public inspection at the Boise, Idaho Falls, and Twin Falls District Offices.

All protests must be in writing (43 CFR 1610.5-2(a)(1)) and filed with the BLM Director, either as a hard copy or electronically via the BLM's ePlanning project website listed previously. To submit a protest electronically, go to the ePlanning project website and follow the protest instructions highlighted at the top of the home page.

If submitting a protest in hard copy, it must be mailed to one of the following addresses:

U.S. Postal Service Mail: BLM Director (210), Attention: Protest Coordinator, WO-210, P.O Box 71383, Washington, DC 20024-1383

Overnight Delivery: BLM Director (210), Attention: Protest Coordinator, WO-210, 20 M Street SE, Room 2134LM, Washington, DC 20003

FOR FURTHER INFORMATION CONTACT: Jonathan Beck, Greater Sage-Grouse Implementation Coordinator, telephone, (208) 373-3841; address, 1387 South Vinnell Way, Boise Idaho 83709; email, jmbeck@blm.gov. Persons who use a telecommunications device for the deaf (TDD) may call the Federal Relay Service (FRS) at (800) 877-8339 to contact Mr. Beck. The FRS is available 24 hours a day, 7 days a week, to leave a message or question with Mr. Beck. You will receive a reply during normal business hours.

SUPPLEMENTARY INFORMATION: The BLM prepared the Idaho Greater SageGrouse Proposed RMP Amendment and Final EIS to enhance cooperation with the States by improving alignment with state management plans and strategies for Greater Sage-Grouse, while continuing to conserve, enhance, and restore Greater Sage-Grouse and its habitat. The Proposed RMP Amendment and Final EIS also addresses the issues remanded to the agency by a March 31, 2017 Order by the United States District Court for the District of Nevada, which determined that the BLM had violated the NEPA when it finalized the 2015 Nevada plan.

The BLM developed the proposed land use plan amendment in collaboration with Idaho Governor Butch Otter, state wildlife managers, and other concerned organizations and individuals, largely through the Western Governors Association's Sage-Grouse Task Force. Using its discretion and authority under the FLPMA, the BLM proposes amending land use plans that address Greater Sage-Grouse management to improve alignment with State of Idaho plans and management strategies, in accordance with the BLM's multiple use and sustained yield mission.

This Proposed RMP Amendment and Final EIS is one of six separate planning efforts that are being undertaken in response to the Secretary's Order (SO) 3353 (Greater Sage-grouse Conservation and Cooperation with Western States) and in accordance with SO 3349 (American Energy Independence). The proposed plans refine the previous management plan adopted in 2015 and aims to strike a regulatory balance and build greater trust among neighboring interests in Western communities. The Proposed RMP Amendment and Final EIS proposes to amend the resource management plans for field offices on BLM-administered lands within Idaho. The current management decisions for resources are described in the following RMPs:

• Bennett Hills/Timmerman Hills Management Framework Plan (MFP) (BLM 1980)

• Big Desert MFP (BLM 1981)

• Big Lost MFP (BLM 1983)

• Bruneau MFP (BLM 1983)

• Cascade RMP (BLM 1988)

• Cassia RMP (BLM 1985)

• Challis RMP (BLM 1999)

• Craters of the Moon National Monument RMP (BLM 2006)

• Jarbidge RMP (BLM 1988)

• Jarbidge RMP (Revised) (BLM 2015)

• Kuna MFP (BLM 1983)

• Lemhi RMP (BLM 1987)

• Little Lost-Birch Creek MFP (BLM 1981)

• Magic MFP (BLM 1975)

• Medicine Lodge MFP (BLM 1981)

• Monument RMP (BLM 1985)

• Owyhee RMP (BLM 1999)

• Pocatello RMP (BLM 2012)

• Snake River Birds of Prey National Conservation Area RMP (BLM 2008)

• Sun Valley MFP (BLM 1981)

• Twin Falls MFP (BLM 1982)

The Idaho planning area includes approximately 39.5 million acres of BLM, National Park Service, U.S. Forest Service, U.S. Bureau of Reclamation, State, local, and private lands in 28 counties: Ada, Adams, Bear Lake, Bingham, Blaine, Bonneville, Butte, Camas, Caribou, Cassia, Clark, Custer, Elmore, Fremont, Gem, Gooding, Jefferson, Jerome, Lemhi, Lincoln, Madison, Minidoka, Oneida, Owyhee, Payette, Power, Twin Falls, and Washington. Within the planning area, the BLM administers 11,470,301 acres of public land, providing 8,809,326 acres of Greater Sage-Grouse habitat. Surface management decisions resulting from this Proposed RMP Amendment and Final EIS will apply only to BLM-administered lands in the planning area.

The formal public scoping process for the RMP Amendment/EIS began on October 11, 2017, with publication of a Notice of Intent in the Federal Register (82 FR 47248). The scoping period ended on December 1, 2017. The BLM in Idaho held three public scoping meetings:

—Twin Falls, Idaho; November 2, 2017

—Idaho Falls, Idaho; November 6, 2017

—Marsing, Idaho; November 7, 2017

The Notice of Availability for the Draft EIS published in the Federal Register (83 FR 19801) on May 4, 2018, and the BLM accepted public comments on the range of alternatives, effects analysis and draft RMP amendments for 90 days, ending on August 2, 2018. During the public comment period, the BLM held three additional public meetings:

—Marsing, Idaho; June 21, 2018

—Twin Falls, Idaho; June 26, 2018

—Idaho Falls, Idaho; June 28, 2018

The Idaho Draft RMP Amendment/Draft EIS focused on the issues of the designation of sagebrush focal areas, mitigation standards, lek buffers, disturbance and density caps, and adjustments to habitat boundaries to reflect new information. The Draft RMP Amendment/Draft EIS evaluated two alternatives in detail: The No Action Alternative (Alternative A) and an action alternative (Management Alignment Alternative). Comments on the Draft RMP Amendment/Draft EIS received from the public and internal BLM review were considered and incorporated as appropriate into the proposed plan amendment. Alternative A would retain the current management goals, objectives, and direction specified in the current RMPs, as amended, for each field office. The BLM identified the Management Alignment Alternative as the Preferred Alternative. Identification of this alternative, however, does not represent final agency direction. Instructions for filing a protest with the Director of the BLM regarding the Proposed RMP Amendment and Final EIS may be found online at https://www.blm.gov/programs/planning-and-nepa/public-participation/filing-a-plan-protest and at 43 CFR 1610.5-2. All protests must be in writing and mailed to the appropriate address, as set forth in the ADDRESSES section above or submitted electronically through the BLM ePlanning project website as described above. Protests submitted electronically by any means other than the ePlanning project website protest section will be invalid unless a protest is also submitted in hard copy. Protests submitted by fax will also be invalid unless also submitted either through ePlanning project website protest section or in hard copy.

Before including your address, phone number, email address, or other personal identifying information in your protest, please be aware that your entire protest, including your personal identifying information, may be made publicly available at any time. While you can ask us in your comment to withhold your personal identifying information from public review, we cannot guarantee that we will be able to do so.

Authority: 40 CFR 1506.6, 40 CFR 1506.10, 43 CFR 1610.2, 43 CFR 1610.5

Peter J. Ditton,
Acting BLM Idaho State Director.

[FR Doc. 2018-26702 Filed 12-7-18; 8:45 am]

BILLING CODE 4310-33-P